DEPARTMENT OF DEFENSE

Office of the Secretary

Meeting of the National Commission on the Structure of the Air Force; Correction to Meetings of October 24, 2013 and October 25, 2013

AGENCY: Director of Administration and Management, DoD.

ACTION: Notice of Advisory Committee Meeting; correction.

SUMMARY: On Thursday, October 3, 2013 (78 FR 61343-61344), the Department of Defense published a notice announcing a meeting of the National Commission on the Structure of the Air Force on October 24, 2013 and October 25, 2013. This notice corrects the time of the October 24, 2013 meeting, which is now scheduled to run from 8:00 a.m. to 5:00 p.m. and also provides notice that the meeting is now partially closed to the public. The open afternoon meeting from 1:00 p.m. to 5:00 p.m. and the all-day meeting on Friday, October 25, 2013 remain as previously scheduled, with some modifications to the list of witnesses scheduled to testify.

DATES: Date of Partially Closed/Partially Open Meeting, including Hearing and Commission Discussion: Thursday, October 24, 2013, from 8:00 a.m. to 5:00 p.m. The period from 8:00 a.m. to 12:30 p.m. in Suite 525 is closed to the public. The period from 1:00 to 5:00 p.m. in Suite 200 is open to the public. Registration for the open meeting will begin at 12:30 p.m.

ADDRESSES: 2521 South Clark Street, Suites 525 & 200, Crystal City, VA 22202.

FOR FURTHER INFORMATION CONTACT: Mrs. Marcia Moore, Designated Federal Officer, National Commission on the Structure of the Air Force, 1950 Defense Pentagon, Room 3A874, Washington, DC 20301-1950. Email: marcia.l.moore12.civ@mail.mil. Desk (703) 545-9113. Facsimile (703) 692-5625.

SUPPLEMENTARY INFORMATION:

Purpose of Meeting: A notice was published in the Federal Register on October 3, 2013 to announce an open meeting of the Commission on October 24-25, 2013. This announcement corrects the length of the October 24, 2013 date which is now scheduled to run from 8:00 a.m. to 5:00 p.m. and also provides notice that the meeting is now partially closed to the public. Commissioners will now hold a closed meeting in the morning in order to receive a classified briefing from the Air Force's Total Force Task Force and hold classified deliberations from 8:00 a.m. until 12:30 p.m. The open afternoon meeting from 1:00 p.m. to 5:00 p.m. and the all-day meeting on Friday, October 25, 2013 remain as previously scheduled, with some modifications to the list of witnesses scheduled to testify.

October 24, 2013 Agenda from 8:00 a.m. to 12:00 p.m.: Major General Brian Meenan, Mobilization Assistant to the Commander, Air Mobility Command, Scott Air Force Base, IL; Major General John Posner, Director of Global Power Programs in the Office of the Assistant Secretary of the Air Force, Acquisition, Headquarters U.S. Air Force, Washington DC; and Major General Mark Bartman, Assistant Adjutant General—Air, Ohio National Guard, who are all also members of the Total Force Task Force, will provide their classified briefing on their recommendations for the balance requirements, capabilities, risk, and costs across all defense forces, as previously given to the Acting Secretary of the Air Force and the Chief of Staff of the Air Force, for the Commissioners. The Commissioners will also deliberate on their information gathering exercises with the leadership of the U.S. Northern Command; Joint Base Langley-Eustis, National Air & Space Intelligence Center, and other site visits; and classified information gathered by the staff and/or members.

October 24, 2013 Agenda from 1:00 p.m. to 5:00 p.m.: The afternoon agenda has been updated to include testimonies from: Lieutenant General James Jackson, Chief of Air Force Reserve/Commander, Air Force Reserve Command, Headquarters U.S. Air Force, Pentagon, Washington, DC; and Lieutenant General Stanley E. Clarke III, Director, Air National Guard.

This meeting is being held under the provisions of the Federal Advisory Committee Act (FACA) of 1972 (5 U.S.C., Appendix, as amended), the Government in the Sunshine Act of 1976 (5 U.S.C. 552b, as amended), and 41 CFR § 102-3.150.

Meeting Accessibility: In accordance with section 10(d) of the FACA, 5 U.S.C. 552b, and 41 CFR 102-3.155, the DoD has determined that the meeting scheduled for October 24, 2013 will now be partially closed to the public. Specifically, the Director of Administration and Management, with the coordination of the DoD FACA Attorney, has determined in writing that the period from 8:00 a.m. to 12:30 p.m. will be closed to the public because the Commission will discuss classified information and matters covered by 5 U.S.C. 552b(c)(1).

Meeting Announcement: Due to the lapse of appropriations, the Department of Defense did not meet the requirements of 41 CFR 102-3.150(a) for providing a corrected notice of both the partial closure of a previously published open meeting of the Commission on October 24, 2013, and accompanying change in time. Accordingly, the Advisory Committee Management Officer for the Department of Defense, pursuant to 41 CFR 102-3.150(b), waives the 15-calendar day notification requirement.

Written Comments: Pursuant to 41 CFR 102-3.105(j) and 102-3.140 and section 10(a)(3) of the FACA, the public or interested organizations may submit written comments to the Commission in response to the stated agenda of the open and/or closed meeting or the Commission's mission. The Designated Federal Officer (DFO) will review all submitted written statements before forwarding to the Commission. Written comments should be submitted to Mrs. Marcia Moore, DFO, via facsimile or electronic mail, the preferred modes of submission. Each page of the comment must include the author's name, title or affiliation, address, and daytime phone number. All contact information may be found in the FOR FURTHER INFORMATION CONTACT section. While written comments are forwarded to the Commissioners upon receipt, note that all written comments on the Commission's charge, as described in the “Background” section, must be received by November 29, 2013, and postmarked by November 8, 2013 if mailed, to be considered by the Commissioners for the final report. This deadline has been extended.

Background

The National Commission on the Structure of the Air Force was established by the National Defense Authorization Act for Fiscal Year 2013 (Pub. L. 112-239). The Department of Defense sponsor for the Commission is the Director of Administration and Management, Mr. Michael L. Rhodes. The Commission is tasked to submit a report, containing a comprehensive study and recommendations, by February 1, 2014 to the President of the United States and the Congressional defense committees. The report will contain a detailed statement of the findings and conclusions of the Commission, together with its recommendations for such legislation and administrative actions it may consider appropriate in light of the results of the study. The comprehensive study of the structure of the U.S. Air Force will determine whether, and how, the structure should be modified to best fulfill current and anticipated mission requirements for the U.S. Air Force in a manner consistent with available resources.

The evaluation factors under consideration by the Commission are for a U.S. Air Force structure that—(a) Meets current and anticipated requirements of the combatant commands; (b) achieves an appropriate balance between the regular and reserve components of the Air Force, taking advantage of the unique strengths and capabilities of each; (c) ensures that the regular and reserve components of the Air Force have the capacity needed to support current and anticipated homeland defense and disaster assistance missions in the United States; (d) provides for sufficient numbers of regular members of the Air Force to provide a base of trained personnel from which the personnel of the reserve components of the Air Force could be recruited; (e) maintains a peacetime rotation force to support operational tempo goals of 1:2 for regular members of the Air Forces and 1:5 for members of the reserve components of the Air Force; and (f) maximizes and appropriately balances affordability, efficiency, effectiveness, capability, and readiness.

Dated: October 18, 2013.
Aaron Siegel,
Alternate OSD Federal Register Liaison Officer, Department of Defense.

[FR Doc. 2013-24910 Filed 10-23-13; 8:45 am]

BILLING CODE 5001-06-P